DEPARTMENT OF COMMERCE

International Trade Administration

Visit Industry Program

AGENCY: International Trade Administration, Commerce.

ACTION: Notice of implementation of the Visit Industry Program.

SUMMARY: The U.S. Department of Commerce will provide for private sector companies to host a US&FCS International Trade Specialist for a period of up to 30 days for the purpose of improving his/her understanding of the issues and obstacles that small and medium-sized businesses must face. The US&FCS believes that such an agreement, authorized under the Mutual Educational and Cultural Exchange Act (MECEA) and ITA's appropriations act, will enhance the ability of its trade specialists to understand the problems and issues facing exporting businesses.

FOR FURTHER INFORMATION CONTACT: James S. Cramer, International Trade Specialist, Office of the Director General, U.S. Commercial Service, (202) 482-2071.

SUPPLEMENTARY INFORMATION: The goal of the Visit Industry Program is to pursue high-quality professional development opportunities, to improve the Trade Specialists' understanding of the issues and obstacles that small and medium-sized businesses must face, educating the trade specialist and assisting the participating company in pursuing international business opportunities. The purpose of the agreement is to provide U.S. & FCS Trade Specialists with an in-depth professional development opportunity that is not available from any other public or private source.

Authority: 15 U.S.C. 4721; 22 U.S.C. 2455 (f).

Dated: August 24, 2002.
Bruce W. Blakeman,
Deputy Assistant Secretary for Domestic Operations, U.S. and Foreign Commercial Service.

[FR Doc. 02-24036 Filed 9-20-02; 8:45 am]

BILLING CODE 3510-FP-P